DEPARTMENT OF COMMERCE

Foreign-Trade Zones Board

[Order No. 1333]

Approval of Processing Activity Within Foreign-Trade Zone 66: Wilmington, NC; Siemens Westinghouse Power Corporation (Inc.) (Industrial Power Generation Equipment)

Pursuant to its authority under the Foreign-Trade Zones Act of June 18, 1934, as amended (19 U.S.C. 81a-81u) (the Act), the Foreign-Trade Zones Board (the Board) adopts the following Order:

Whereas, the North Carolina Department of Commerce, grantee of FTZ 66, has requested authority under Section 400.32(b)(1) of the Board's regulations on behalf of Siemens Westinghouse Power Corporation (Inc.), to process foreign-origin turbines and domestic industrial power generators under zone procedures within FTZ 66, Wilmington, North Carolina (Docket 8-2004, filed 3-9-2004);

Whereas, pursuant to 15 CFR 400.32(b)(1), the Commerce Department's Assistant Secretary for Import Administration has the authority to act for the Board in making such decisions on new manufacturing/processing activity under certain circumstances, including situations where the proposed activity is the same, in terms of products involved, to activity recently approved by the Board (§ 400.32(b)(1)(i)); and,

Whereas, the FTZ Staff has reviewed the proposal, taking into account the criteria of Section 400.31, and the Executive Secretary has recommended approval;

Now, therefore, the Assistant Secretary for Import Administration, acting for the Board pursuant to § 400.32(b)(1), concurs in the recommendation and hereby approves the request subject to the Act and the Board's regulations, including § 400.28.

Signed at Washington, DC, this 30th day of April, 2004.
Attest:
Dennis Puccinelli,
Executive Secretary.
James J. Jochum,
Assistant Secretary of Commerce for Import Administration, Alternate Chairman, Foreign-Trade Zones Board.

[FR Doc. 04-10672 Filed 5-10-04; 8:45 am]

BILLING CODE 3510-DS-M